INTERNATIONAL TRADE COMMISSION

[Investigation No. 337-TA-677]

In the Matter of: Certain Course Management System Software Products; Notice of Commission Determination Not To Review an Initial Determination Terminating the Investigation on the Basis of a Settlement Agreement

AGENCY: U.S. International Trade Commission.

ACTION: Notice.

SUMMARY: Notice is hereby given that the U.S. International Trade Commission has determined not to review an initial determination (“ID”) (Order No. 6) terminating the investigation of the basis of a settlement agreement.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on June 9, 2009, based upon a complaint filed on behalf of Blackboard Inc. of Washington, DC (“Blackboard”) on April 17, 2009, and supplemented on May 6 and May 14, 2009. 74 FR 27345 (June 9, 2009). The complaint alleged violations of section 337 of the Tariff Act of 1930 (19 U.S.C. 1337) in the importation into the United States, the sale for importation, and the sale within the United States after importation of certain course management system software products that infringe certain claims of United States Patent No. 6,988,138. The notice of investigation named Desire2Learn, Inc. of Ontario, Canada (“D2L”) as respondent.

On December 17, 2009, Blackboard and D2L filed a joint motion pursuant to Commission Rule 210.21(b) to terminate the investigation based upon a settlement agreement. On December 24, 2009, the Commission investigative attorney filed a response in support of the motion. On December 28, 2009, the ALJ issued Order No. 6, granting the motion. No petitions for review were filed.

The Commission has determined not to review the subject ID.

This action is taken under the authority of section 337 of the Tariff Act of 1930, as amended (19 U.S.C. 1337), and of section 210.42(h) of the Commission's Rules of Practice and Procedure (19 CFR 210.42(h)).

By order of the Commission.
Issued: January 21, 2010.
Marilyn R. Abbott,
Secretary to the Commission.

[FR Doc. 2010-1489 Filed 1-26-10; 8:45 am]

BILLING CODE 7020-02-P